DEPARTMENT OF TRANSPORTATION

Surface Transportation Board

[STB Docket No. AB-581X and STB Docket No. AB-529X] ¹

1411 Corporation—Abandonment Exemption—in Lancaster County, PA; Middletown & Hummelstown Railroad Company—Abandonment Exemptions—in Lancaster, PA

1411 Corporation (1411) and Middletown & Hummelstown Railroad Company (M&H) (collectively applicants) have filed separate verified notices of exemption under 49 CFR part 1152 Subpart F—Exempt Abandonments to abandon service over the same line of railroad extending from milepost 39.3,² in the borough of Columbia, to milepost 37.2, in West Hempfield Township, a distance of approximately 2.5 miles in Lancaster County, PA (line).³ The line traverses United States Postal Service Zip Code 17512.

¹ These proceedings are being handled together for administrative convenience.

² Past agency decisions concerning this line indicated that the line extended from milepost 39.7 to milepost 37.2. Interested persons should be on notice that the abandonment proposals quite likely concern the line from milepost 39.7 to milepost 37.2.

³ M&H filed a notice of exemption with the Interstate Commerce Commission (ICC) to lease from ITT Grinnell Corporation (Grinnell) and operate the line in Middletown & Hummelstown Railroad Company, Finance Docket No. 29984 (ICC served Aug. 11, 1982). Grinnell later transferred the ownership of the line to its wholly owned subsidiary 1411. The ICC exempted 1411's ownership and operation of the line in Fourteen-Eleven Corporation Exemption—Acquisition and Operation, Finance Docket No. 30775 (ICC served Feb. 11, 1986).

Applicants have certified that: (1) No local traffic has moved over the line for at least 2 years; (2) there is no overhead traffic on the line as this is not a through route; (3) no formal complaint filed by a user of rail service on the line (or by a state or local government agency acting on behalf of such user) regarding cessation of service over the line is either pending with the Surface Transportation Board (Board) or any U.S. District Court or has been decided in favor of complainant within the 2-year period; and (4) the requirements at 49 CFR 1105.7 (environmental reports), 49 CFR 1105.8 (historic reports), 49 CFR 1105.11 (transmittal letter), 49 CFR 1105.12 (newspaper publication), and 49 CFR 1152.50(d)(1) (notice to governmental agencies) have been met.

As a condition to these exemptions, any employee adversely affected by the abandonment shall be protected under Oregon Short Line R. Co.—Abandonment—Goshen, 360 I.C.C. 91 (1979). To address whether this condition adequately protects affected employees, a petition for partial revocation under 49 U.S.C. 10502(d) must be filed. Provided no formal expression of intent to file an offer of financial assistance (OFA) has been received, these exemptions will be effective on May 12, 2001, unless stayed pending reconsideration. Petitions to stay that do not involve environmental issues,⁴ formal expressions of intent to file an OFA under 49 CFR 1152.27(c)(2),⁵ and trail use/rail banking requests under 49 CFR 1152.29 must be filed by April 23, 2001. Petitions to reopen or requests for public use conditions under 49 CFR 1152.28 must be filed by May 2, 2001, with the Surface Transportation Board, Office of the Secretary, Case Control Unit, 1925 K Street, N.W., Washington, DC 20423-0001.

⁴ The Board will grant a stay if an informed decision on environmental issues (whether raised by a party or by the Board's Section of Environmental Analysis (SEA) in its independent investigation) cannot be made before the exemptions' effective date. See Exemption of Out-of-Service Rail Lines, 5 I.C.C.2d 377 (1989). Any request for a stay should be filed as soon as possible so that the Board may take appropriate action before the exemptions' effective date.

⁵ Each offer of financial assistance must be accompanied by the filing fee, which currently is set at $1000. See 49 CFR 1002.2(f)(25).

A copy of any petition filed with the Board should be sent to applicants' representative: Andrew P. Goldstein, Esq., McCarthy, Sweeney & Harkaway, P.C., 2175 K Street, N.W., Suite 600, Washington, DC 20037. If the verified notices contain false or misleading information, the exemptions are void ab initio.

Applicants have filed separate environmental reports which address the abandonment's effects, if any, on the environment and historic resources. SEA will issue an environmental assessment (EA) by April 17, 2001. Interested persons may obtain a copy of the EA by writing to SEA (Room 500, Surface Transportation Board, Washington, DC 20423-0001) or by calling SEA, at (202) 565-1545. Comments on environmental and historic preservation matters must be filed within 15 days after the EA becomes available to the public.

Environmental, historic preservation, public use, or trail use/rail banking conditions will be imposed, where appropriate, in a subsequent decision.

Pursuant to the provisions of 49 CFR 1152.29(e)(2), 1411 and M&H shall each file a notice of consummation with the Board to signify that it has exercised the authority granted and fully abandoned the line.⁶ If consummation has not been effected by 1411's and M&H's filing of a notice of consummation by April 12, 2002, and there are no legal or regulatory barriers to consummation, the authority to abandon will automatically expire.

⁶ It may be that M&H requires only discontinuance authority while 1411 needs abandonment authority. Effectiveness of these exemptions will permit both entities to end their common carrier obligations by filing the appropriate notices of consummation.

Board decisions and notices are available on our website at “WWW.STB.DOT.GOV.”

Decided: March 30, 2001.
By the Board, David M. Konschnik, Director, Office of Proceedings.
Vernon A. Williams,
Secretary.

[FR Doc. 01-8414 Filed 4-11-01; 8:45 am]

BILLING CODE 4915-00-P